DEPARTMENT OF AGRICULTURE

Grain Inspection, Packers and Stockyards Administration

Designation for the West Sacramento, CA; Frankfort, IN; Indianapolis, IN; and Virginia Areas

AGENCY: Grain Inspection, Packers and Stockyards Administration, USDA.

ACTION: Notice.

SUMMARY: GIPSA is announcing the designation of the following organizations to provide official services under the United States Grain Standards Act, as amended (USGSA): California Agri Inspection Company, Ltd. (California Agri); Frankfort Grain Inspection, Inc. (Frankfort); Indianapolis Grain Inspection & Weighing Service, Inc. (Indianapolis); and Virginia Department of Agriculture and Consumer Services (Virginia).

DATES: Effective Date: January 1, 2010.

ADDRESSES: William A. Ashley, Acting Branch Chief, Review Branch, Compliance Division, GIPSA, USDA, STOP 3604, Room 1647-S, 1400 Independence Avenue, SW., Washington, DC 20250-3604

FOR FURTHER INFORMATION CONTACT: William A. Ashley, 202-720-8262 or William.A.Ashley@usda.gov.

READ APPLICATIONS: All applications and comments will be available for public inspection at the office above during regular business hours (7 CFR 1.27(c)).

SUPPLEMENTARY INFORMATION: In the June 1, 2009, Federal Register (74 FR 26199), GIPSA requested applications for designation to provide official services in the geographic areas presently serviced by the agencies named above. Applications were due by July 1, 2009.

California Agri, Frankfort, Indianapolis, and Virginia were the sole applicants for designations to provide official services in these areas. As a result, GIPSA did not ask for additional comments.

GIPSA evaluated all available information regarding the designation criteria in section 7(f)(l) of the USGSA (7 U.S.C. 79(f)) and determined that California Agri, Frankfort, Indianapolis, and Virginia are able to provide official services in the geographic areas specified in the June 1, 2009, Federal Register for which they applied. These designation actions to provide official services in the specified areas are effective January 1, 2010, and terminate on December 31, 2012.

Interested persons may obtain official services by calling the telephone numbers listed below:

Official agency | Headquarters location and telephone | Designation start | Designation end
California Agri | West Sacramento, CA (916-374-9700), Additional Locations: Corcoran and Stockton, CA | 1/1/2010 | 12/31/2012
Frankfort | Frankfort, IN (765-258-3624) | 1/1/2010 | 12/31/2012
Indianapolis | Indianapolis, IN (317-899-2337) | 1/1/2010 | 12/31/2012
Virginia | Richmond, VA (804-786-0480), Additional Location: Chesapeake, VA | 1/1/2010 | 12/31/2012

Section 7(f)(1) of the USGSA authorizes GIPSA's Administrator to designate a qualified applicant to provide official services in a specified area after determining that the applicant is better able than any other applicant to provide such official services (7 U.S.C. 79 (f)(1)).

Under section 7(g)(1) of the USGSA, designations of official agencies are effective for 3 years unless terminated by the Secretary; however, designations may be renewed according to the criteria and procedures prescribed in section 7(f) of the Act.

Authority: 7 U.S.C. 71—87k.

J. Dudley Butler,
Administrator, Grain Inspection, Packers and Stockyards Administration.

[FR Doc. E9-29346 Filed 12-8-09; 8:45 am]

BILLING CODE 3410-KD-P